ENVIRONMENTAL PROTECTION AGENCY

[FRL-9722-1]

Request for Additional Nominations of Candidates for the EPA's Science Advisory Board (SAB), Chemical Assessment Advisory Committee

AGENCY: Environmental Protection Agency.

ACTION: Notice.

SUMMARY: The U.S. Environmental Protection Agency (EPA) invites public nominations of additional scientific experts to be considered for appointment to the EPA's Science Advisory Board (SAB) Chemical Assessment Advisory Committee (CAAC) to provide advice through the chartered SAB regarding Toxicological Reviews of environmental chemicals available on EPA's Integrated Risk Information System (IRIS).

DATES: Nominations should be submitted in time to arrive no later than September 19, 2012.

FOR FURTHER INFORMATION CONTACT: Nominators unable to submit nominations electronically as described below may submit a paper copy to the Designated Federal Officer for the committee, Mr. Aaron Yeow, DFO by email at yeow.aaron@epa.gov or contact him by telephone at 202-564-2050.

Background: The chartered SAB (the Board) was established in 1978 by the Environmental Research, Development and Demonstration Act (42 U.S.C. 4365) to provide independent advice to the Administrator on general scientific and technical matters underlying the Agency's policies and actions. Members of the SAB and its subcommittees constitute a distinguished body of non-EPA scientists, engineers, economists, and social scientists that are nationally and internationally-recognized experts in their respective fields from academia, industry, state, and tribal governments, research institutes, and non-governmental organizations. Members are appointed by the EPA Administrator for a period of three years. The SAB conducts business in accordance with the Federal Advisory Committee Act (FACA) (5 U.S.C. App. 2) and related regulations. Generally, SAB meetings are announced in the Federal Register, conducted in public view, and provide opportunities for public input during deliberations. All the work of the SAB subcommittees is performed under the direction of the Board. The chartered Board provides strategic advice to the EPA Administrator on a variety of EPA science and research programs and reviews and approves all SAB subcommittee and panel reports. Additional information about the SAB Federal Advisory Committees may be found on the SAB Web site at http://www.epa.gov/sab.

The U.S. EPA SAB Staff Office announced in a Federal Register Notice (Vol. 76, No. 223, pp. 71561-62) published on November 18, 2011, that it was forming a new committee under the auspices of the SAB to provide advice to EPA through the chartered SAB regarding the development of IRIS Toxicological Reviews. The SAB Staff Office sought public nominations of nationally and internationally recognized experts with knowledge in human health risk assessment and expertise in a range of disciplines including, but not limited to: public health; epidemiology; toxicology; modeling; biostatistics; and risk assessment. The SAB Staff Office invited public comments on the list of candidates being considered for appointment to the CAAC, which was announced in a Federal Register Notice (Vol. 77, No. 40, p. 12302) published on February 29, 2012. The list of candidates is available at: http://yosemite.epa.gov/sab/sabproduct.nsf/WebBOARD/CAACListofCandidates/$File/bio%20list%20of%20candidatesw-memo022912.pdf. The SAB Staff Office is seeking additional scientific experts to be considered for appointment to the CAAC.

Expertise Sought: The SAB Staff Office is seeking nominations of additional experts to serve on the SAB CAAC with expertise in health disparities to sensitive and susceptible populations. There is no need to resubmit nominations for individuals already on the list of candidates. For further information, please contact Mr. Aaron Yeow, DFO, by telephone at 202-564-2050 or by email at yeow.aaron@epa.gov.

Selection criteria include:

—Demonstrated scientific credentials and disciplinary expertise in their own fields;

—Willingness to commit time to the committee and demonstrated ability to work constructively and effectively on committees;

—Absence of financial conflicts of interest;

—Absence of an appearance of a lack of impartiality;

—Background and experiences that would contribute to the diversity of perspectives on the committee, e.g., geographic, economic, social, cultural, educational backgrounds, and professional affiliations; and

—For the committee as a whole, consideration of the collective breadth and depth of scientific expertise; and a balance of scientific perspectives.

How to Submit Nominations: Any interested person or organization may nominate qualified persons to be considered for appointment to this advisory committee. Individuals may self-nominate. Nominations should be submitted in electronic format (preferred) following the instructions for “Nominating Experts to the Chemical Assessment Advisory Committee” provided on the SAB Web site. The form can be accessed through the “Nomination of Experts” link on the blue navigational bar on the SAB Web site at http://www.epa.gov/sab. To be considered, all nominations should include the information requested. EPA values and welcomes diversity. In an effort to obtain nominations of diverse candidates, EPA encourages nominations of women and men of all racial and ethnic groups.

Nominators are asked to identify the specific committee for which nominees are to be considered. The following information should be provided on the nomination form: contact information about the person making the nomination; contact information about the nominee; the disciplinary and specific areas of expertise of the nominee; the nominee's curriculum vita; and a biographical sketch of the nominee indicating current position, educational background; research activities; sources of research funding; and recent service on other national advisory committees or national professional organizations. Persons having questions about the nomination procedures, or who are unable to submit nominations through the SAB Web site, should contact the Designated Federal Officer for the committee, as identified above. Non-electronic submissions must follow the same format and contain the same information as the electronic form. The SAB Staff Office will acknowledge receipt of nominations and in that acknowledgement will invite the nominee to provide any additional information that the nominee feels would be useful in considering the nomination, such as availability to participate as a member of the committee; how the nominee's background, skills and experience would contribute to the diversity of the committee; and any concerns the nominee has regarding membership. The names and biosketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a lack of impartiality, as defined by Federal regulation. The form may be viewed and downloaded through the “Ethics Requirements for Advisors” link on the blue navigational bar on the SAB Web site at http://www.epa.gov/sab.

Dated: August 21, 2012.
Thomas Brennan,
Deputy Director, EPA Science Advisory Board Staff Office.

[FR Doc. 2012-21337 Filed 8-28-12; 8:45 am]

BILLING CODE 6560-50-P